DEPARTMENT OF HEALTH AND HUMAN SERVICES

Agency for Healthcare Research and Quality

Notice of Cancellation for “Voluntary Customer Surveys Generic Clearance for AHRQ” OMB Information Collection

The notice mentioned above was published in the Federal Register on August 13, Volume 69, Number 156, Page 50204, http://a257.g.akamaitech.net/7/257/2422/06jun20041800/edocket.access.gpo.gov/2004/04-18653.htm, allowing 30 days for comments from its date of publication August 13.

With this notice of cancellation, the Agency for Healthcare Research and Quality is deactivating the published Federal Register notice mentioned above so that the Federal Register notice published on July 13, 2004, Volume 69, Number 133, Pages 42057-42058, http://a257.g.akamaitech.net/7/257/2422/06jun20041800/edocket.access.gpo.gov/2004/04-15786.htm, allowing 60 days for comments, continues its comment cycle until September 10, 2004.

A future notice asking for comments for an additional 30 days will be published in the Federal Register on September 13.

Dated: August 23, 2004.
Carolyn M. Clancy,
AHRQ Director.

[FR Doc. 04-19989 Filed 9-1-04; 8:45 am]

BILLING CODE 4160-90-M